DEPARTMENT OF LABOR

Employment and Training Administration

[TA-W-52,602]

Reed-Rico, Holden Facility, Holden MA; Notice of Termination of Investigation

Pursuant to section 221 of the Trade Act of 1974, as amended, an investigation was initiated on August 18, 2003 in response to a petition filed by a company official on behalf of workers of Reed-Rico, Holden Facility, Holden, Massachusetts.

The petitioner has requested that the petition be withdrawn. Consequently, the investigation has been terminated.

Signed at Washington, DC this 26th day of September 2003.
Richard Church,
Certifying Officer, Division of Trade Adjustment Assistance.

[FR Doc. 03-27933 Filed 11-5-03; 8:45 am]

BILLING CODE 4510-30-P